DEPARTMENT OF COMMERCE

National Oceanic and Atmospheric Administration

RIN 0648-XG373

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, August 13, 2018 through Thursday, August 16, 2018. For agenda details, see SUPPLEMENTARY INFORMATION.

ADDRESSES: The meeting will be held at the Hilton Virginia Beach Oceanfront, 3001 Atlantic Avenue, Virginia Beach, VA 23451, telephone: (757) 213-3000.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible).

Monday, August 13, 2018

Swearing in of New and Reappointed Council Members

Election of Officers

Illex Control Date and 2018 and 2019 Fishery

Consider a new or existing (August 2, 2013) control date and review and consider adjustment to 2018 and 2019 Illex specifications.

Atlantic Mackerel Framework and Specifications

Approve rebuilding plan and associated 2019-2021 specifications including river herring and shad cap.

Tuesday, August 14, 2018

Council Meeting With the Atlantic States Marine Fisheries Commission's Summer Flounder, Scup, and Black Sea Bass and Bluefish Boards

MRIP Presentation on New Estimates

Summer Flounder, Scup, and Black Sea Bass Framework and Addendum on Conservation Equivalency, Block Island Sound Transit, and Slot Limits

Framework meeting 1—review draft alternatives and review and approve draft addendum.

Black Sea Bass Specifications

Review SSC, Monitoring Committee, Advisory Panel, and staff recommendations and adopt 2019 specifications.

Black Sea Bass Wave 1 Fishery and Letter of Authorization (LOA)

Consider a potential February 2019 opening of the recreational Wave 1 fishery and discuss the continued development of the LOA Framework.

Wednesday, August 15, 2018

Council Meeting With the Atlantic States Marine Fisheries Commission's Summer Flounder, Scup, and Black Sea Bass and Bluefish Boards

Summer Flounder Specifications

Review SSC, Monitoring Committee, Advisory Panel, and staff recommendations and adopt 2019 specifications.

Scup Specifications

Review SSC, Monitoring Committee, Advisory Panel, and staff recommendations regarding previously implemented 2019 specifications and recommend changes to 2019 specifications if necessary.

Bluefish Specifications

Review SSC, Monitoring Committee, Advisory Panel, and staff recommendations and adopt 2019 specifications.

Bluefish Allocation Amendment

Review scoping comments and discuss next steps and determine issues to be included in public hearing document.

ASMFC Bluefish FMP Review

Thursday, August 16, 2018

Responsible Offshore Development Alliance

Draft Amendment 11 to the 2006 Consolidated Atlantic HMS FMP for Management of Shortfin Mako Sharks

Business Session

Committee Reports (SSC); Executive Director's Report; Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: July 25, 2018.
Tracey L. Thompson,
Acting Deputy Director, Office of Sustainable Fisheries, National Marine Fisheries Service.

[FR Doc. 2018-16221 Filed 7-27-18; 8:45 am]

BILLING CODE 3510-22-P